DEPARTMENT OF COMMERCE

International Trade Administration

[Docket No. 100301119-0119-01; I.D. GF001]

Market Development Cooperator Program 2010

AGENCY: Office of Planning, Coordination and Management (OPCM), Manufacturing and Services (MAS), International Trade Administration (ITA), Commerce.

ACTION: Notice of funding availability.

SUMMARY: ITA requests that eligible organizations submit proposals (applications) for the fiscal year (FY) 2010 competition for Market Development Cooperator Program (MDCP) awards. ITA creates economic opportunity for U.S. workers and firms by promoting international trade and investment, strengthening industry competitiveness, and ensuring fair trade.

DATES: Applications: The Department must receive completed applications by 5 p.m. Eastern Daylight Time, April 19, 2010. Late applications will not be accepted. Applicants whose applications have been accepted will be notified via e-mail or fax within ten days of the submission deadline.

Public Meeting: The Department will hold a public meeting to discuss MDCP proposal preparation, procedures, and selection process on Tuesday, March 16, 2010. The ninety-minute meeting will begin at 2 p.m. in Room 6029, at the Herbert Clark Hoover Building, 14th and Constitution Avenue, NW., Washington, DC. The Department will not discuss specific proposals at this meeting. Attendance is not required. Interested parties may participate via telephone conference. Dial-in instructions will be posted on the Internet at trade.gov/mdcp. Interested parties can also obtain dial-in instructions from Ms. Catherine Land at 202-482-3858.

ADDRESSES: Applicants are strongly encouraged to submit their applications via http://www.grants.gov. Application packages are available from http://www.grants.gov or may obtained at trade.gov/mdcp or by contacting Mr. Brad Hess, U.S. Department of Commerce, HCHB 3215, 14th Street and Constitution Avenue, NW., Washington, DC 20230. This is also the address where applicants may submit an application if they cannot submit online or choose not to submit online.

FOR FURTHER INFORMATION CONTACT: Mr. Brad Hess, Manager, Market Development Cooperator Program, Manufacturing and Services, ITA, U.S. Department of Commerce, 14th Street and Constitution Avenue, NW., Room 3215, Washington, DC 20230. E-mail address: Brad.Hess@trade.gov.

SUPPLEMENTARY INFORMATION: Through Market Development Cooperator Program (MDCP) cooperative agreements, the Department provides technical and financial assistance to trade associations, state departments of trade, and other non-profit industry organizations to help to underwrite the start-up costs of new ventures that organizations are often reluctant to undertake without federal government support. These organizations are particularly effective in reaching small- and medium-size enterprises (SMEs). The mission goals of the MDCP strengthens the competitiveness of U.S. industry by fostering projects that result in increased exports and/or market share for non-agricultural goods and services produced in the United States. As an active partner, ITA will, as appropriate, guide and assist organizations in achieving project objectives.

ITA publishes this notice to solicit applications for MDCP funds. ITA encourages organizations to propose projects that: (1) Best strengthen their industry through market development; and (2) leverage the partnership between the organization and ITA.

1. Definitions

Several definitions are provided in section VIII. Other Information of the Federal Funding Opportunity announcement (see Electronic Access).

2. Examples of Project Activity

Applicants should propose market development activities tailored to strengthen the competitiveness of a U.S. industry. Examples from prior years are set forth below and, in greater detail, at trade.gov/mdcp. These are provided only for illustration: Promotion of standards that ensure market access for U.S. products; helping business leaders to leverage free trade agreements to the advantage of U.S. industry; demonstration of U.S. products abroad; development of a shared Internet-based distribution system in a target market; establishment of technical servicing of U.S. products abroad; joint promotion of U.S. products with foreign partners; establishment of a trade association office in a target market; education of foreign users of U.S. technology concerning intellectual property rights; training foreign staff for after-sale service of U.S. products in target markets; increasing trust in U.S. products in foreign markets by safeguarding non-U.S. elements of the supply chain with an ingredient testing system; publication of product brochures and company directories; and development of product quality standards and designations along with target-market promotion of same.

Electronic Access: The full text of the Federal funding opportunity (FFO) announcement for this program can be accessed via the Grants.gov Web site at http://www.grants.gov. The FFO announcement will also be available by contacting the program officials identified under FOR FURTHER INFORMATION CONTACT. Applicants must comply with all requirements contained in the FFO announcement.

Statutory Authority: MDCP is provided for in 15 U.S.C. 4723. The program strengthens U.S. industry's competitiveness by developing, maintaining, and expanding foreign markets for non-agricultural goods and services produced in the United States.

CFDA: 11.112, Market Development Cooperator Program

Funding Availability: Approximately $1,500,000 is expected to be available through this announcement for fiscal year 2010. The total number of awards made will depend on the amounts requested by top-scoring applicants and the availability of funds. No award will exceed $500,000. The Department anticipates concluding three to thirty cooperative agreements.

Program Priorities

ITA seeks to promote trade and strengthen the global competitiveness of U.S. industry. MDCP projects should be designed to meet this objective. The primary measurements of effectiveness of MDCP projects in meeting this objective are exports and U.S. jobs created or sustained by these exports. Listed below are more specific priorities that help ITA to achieve this objective. Applicants should demonstrate how their proposed projects are compatible with or complementary to these ITA priorities. An applicant does not need to focus on a specific number of these priorities to qualify for an award. Strong compatibility or complementarity on one priority can be sufficient for an application to score high enough to be funded. The Department is interested in receiving proposals that include but are not limited to projects that:

1. Create or sustain U.S. jobs by increasing or maintaining exports;

2. Address impediments to innovation and reduce the cost of doing business in foreign countries;

3. Address standards, intellectual property rights, and other non-tariff barriers, especially in large markets like China, India, and Brazil;

4. Help U.S. industry to capitalize on effective global supply chain management strategies;

5. Increase U.S. market share in China's clean energy sector and improve the business environment for U.S. companies in China;

6. Facilitate ease of travel to the United States and promote U.S. higher education and training opportunities to non-U.S. entities;

7. Increase overall export awareness and awareness of ITA programs and services among U.S. companies, by making SMEs export-ready or by facilitating deal-making; and

8. Expand exports of U.S. emerging technologies.

Eligibility: Trade associations, state departments of trade and their regional associations, and non-profit industry organizations, including organizations such as World Trade Centers, centers for international trade development and small business development centers are eligible to apply for an MDCP award. Private industry firms or groups of firms may be eligible to apply for an MDCP award in cases where an entity listed above does not exist to represent the industry. Such private industry firms or groups of firms must provide in their applications, documentation demonstrating that a trade association, non-profit industry organization, or state department of trade or their regional association does not exist to represent the industry.

Definitions of each eligible entity are provided below:

1. Trade Association: A fee-based organization consisting of member firms in the same industry, or in related industries, or which share common commercial concerns. The purpose of the trade association is to further the commercial interests of its members through the exchange of information, legislative activities, and other forms of representation.

2. Non-Profit Industry Organization

a. A non-profit small business development center operating under agreement with the Small Business Administration; or

b. A non-profit World Trade Center chartered or recognized by the non-profit World Trade Centers Association; or

c. An organization granted status as a non-profit organization under 26 U.S.C. 501(c)(3), (4), (5), or (6), which operates as one of the following: (1) Chamber of commerce; (2) Board of trade; (3) Business, export or trade council/interest group; (4) Visitors bureau or tourism promotion group; (5) Economic development group; (6) Small business development center; or (7) Port authority. Organizations with 501(c)(4) status that engage in lobbying are not eligible.

3. State Departments of Trade and Their Regional Associations

a. Department of a state government tasked with promoting trade, tourism, or other types of economic development; or

b. Associations of the departments of trade (as defined above) of two or more states; or

c. Entities within a state or within a region that are associated with a state department of trade, tourism, or other types of economic development including non-profit, non-private, non-commercial entities which are at least partially funded by, directed by, or tasked by a state government to promote trade, tourism, or other types of economic development.

Clarification Regarding Eligibility of Educational Institutions

Educational institutions, such as schools, colleges, and universities, are generally not eligible. However, organizations that are part of or affiliated with an educational institution for administrative, accounting, financial, legal, or logistical reasons may be eligible. Such organizations that are not independent legal entities—for example, an unincorporated organization—that otherwise may be classified as a trade association; non-profit industry association; or. state department of trade or their regional association are eligible. In such a case, the eligible entity will include in its application a signed letter from the educational institution stating that MDCP funds will be used only by the eligible entity for the purposes outlined in its application, and that no such funds will be used by or retained by the educational institution, even though the funds may need to go through the educational institution because of the eligible entity's lack of a separate accounting system or lack of status as a separate legal entity.

Cost Sharing Requirements: A cooperator must contribute at least two dollars for each Federal dollar received. The first dollar's-worth of contribution must be cash, the second can be either cash or in-kind contribution worth one dollar. See section VIII.B. Supplemental Explanation of Cost Share and Match of the FFO announcement for more information.

Evaluation and Selection Procedures: The general evaluation criteria and selection factors that apply to full applications to this funding opportunity are summarized below. Further information about the evaluation criteria and selection factors can be found in the FFO announcement.

Evaluation Criteria for Projects: The Department is interested in projects that demonstrate the possibility of both significant progress during the award period and lasting benefits extending beyond the award period. To that end, the selection panel reviews each application for financial assistance under MDCP based upon the evaluation criteria listed below.

1. Potential to Strengthen Competitiveness (20 points):

A project's potential to strengthen competitiveness is evaluated primarily on the likelihood that it will result in export initiatives by U.S. firms, particularly small- and medium-sized enterprises. Such initiatives are normally characterized by a significant expenditure of resources by the chief executive officer of a company in the active pursuit of export sales. As noted in the Examples of Project Activity, many different kinds of activity can strengthen the competitiveness of U.S. industry; however, an applicant can earn the maximum number of points under this criterion only by demonstrating how its proposed project is expected to result in increased export initiatives by individual U.S. firms and exports by those firms.

2. Performance Measurement (20 points):

Applicants must provide quantifiable estimates of projected export and market share increases and explain how they are derived. No application that lacks an estimate of exports can receive a performance measurement score that exceeds ten (10). Applicants must detail the methods they will use to gather and report performance information. The Department will evaluate each applicant's proposed performance measures and proposed performance goals to determine how reasonable they are and to determine the likelihood that the applicant will gather and report useful data.

3. Partnership and Priorities (20 points):

This criterion evaluates the degree to which the project initiates or enhances partnership with ITA and the degree to which the proposal furthers or is compatible with ITA's priorities stated under Program Priorities above.

4. Creativity and Capacity (20 points):

This criterion evaluates the creativity, innovation, and realism displayed by the work plan as well as the institutional capacity of the applicant to carry out the work plan.

a. Demonstrating Creativity: Applicants might propose ideas not previously tried to promote a particular industry in a market. Creativity can be demonstrated by the manner in which techniques are customized to meet the specific needs of certain client groups.

b. Table Comparing Proposal to Current or Past MDCP Projects: Applicants that have received an MDCP award in the past must submit a table comparing their current or past MDCP project(s) and their proposed project. The need for this table and the requested format are described below. MDCP awards are designed to help underwrite the start-up costs of new projects. Accordingly, current or past cooperators can be in a position to earn the maximum number of points under this criterion only if they propose projects that are entirely new. In order to determine whether a project is entirely new, the current or past cooperator must provide, as a separate appendix, a comparison between the elements of the proposed project and the elements of its current or past MDCP-funded projects. Current or past cooperators that propose projects that are not entirely new will receive fewer points under this criterion than they would receive otherwise. In determining the number of points under this criterion, the selection panel will consider the level to which a particular applicant has incorporated elements of its previously funded MDCP projects. To do this, current or past cooperators should submit a table wherein they approximate the amount of resources devoted to each project element. See VIII.C. Example Table Comparing Proposal to Current or Past MDCP Projects of the FFO announcement for more information.

c. Institutional Capacity: The Department measures institutional capacity by what each applicant submits. A current or past cooperator should not assume that success with a prior MDCP project will automatically be taken into account by the Department when reviewing its application. Each applicant must document its institutional capacity in its application.

5. Budget and Sustainability (20 points):

This criterion encompasses the reasonableness of the itemized budget for project activities, the amount of the cash match that is readily available at the beginning of the project, and the probability that the project can be continued on a self-sustained basis after the completion of the award. Current or past cooperators must show how the proposed project will achieve self-sustainability independent of any current or past MDCP projects. ITA does not assume that prior MDCP projects are self-sustaining. As noted in the section entitled Institutional Capacity, ITA assesses each application based on what each applicant chooses to include in its application. If an applicant wants ITA to consider the self-sustainability of a prior project when evaluating a new project proposal, it should include relevant information in its application.

Each of the above criteria is worth a maximum of 20 points. The five criteria together constitute the application score. At 20 points per criterion, the total possible score is 100.

Review and Selection Process: The applicant is responsible for submitting a complete application in a timely manner. Prior to selection, each complete application receives an evaluation as set forth below.

Eligibility Determination

The MDCP staff of the Office of Planning, Coordination and Management (OPCM) in ITA's Manufacturing and Services (MAS), in consultation with the Department's Office of General Counsel, reviews all applications to determine the eligibility of each applicant.

Program Area Review

All eligible applicants are forwarded to the relevant program areas, including ITA's MAS, Market Access and Compliance (MAC), and Commercial Service, for review. This allows experts in the industry sector or geographical region to assess applicant claims. These reviewers provide insights into both the potential benefits and the potential difficulties associated with the applications.

OPCM Review

Representatives of OPCM will also review and comment on applications using the evaluation criteria identified above.

Selection Panel

The MDCP Manager prepares for the selection panel a review packet including the applications and OPCM reviewer and program area reviewer comments. The OPCM reviewer and program area review comments afford the selection panel the insights and breadth of experience of Department professionals. Although their comments are made available to the selection panel, it is only the selection panel's scores that determine the top ranked applications that are forwarded to the Assistant Secretary for Manufacturing and Services with the recommendation for selection as award recipients. The MDCP Manager forwards all of the eligible applications, along with all related materials, to the selection panel, which is comprised of at least three senior ITA managers, for review and selection recommendation. This panel is chaired by the OPCM Director and typically includes three other members, one each from MAS, MAC, and the Commercial Service. Panel members are office directors or higher.

Each selection panel member reviews each eligible application using the evaluation criteria and assigns a score for each of the five criteria stated above. Panel members have the discretion to take into consideration the OPCM staff and program area comments when assigning a score for each application. The scores of each selection panel member for each application reviewed are maintained in the files for three years. The individual criteria scores are averaged to determine the total score for each application. The evaluation criteria scores assigned by the panel determine which applications are recommended for funding.

Based on the scores assigned by selection panel members and deliberations by the selection panel, the selection panel ranks all applications based on scores and forwards the applications with the ten highest total scores (“top-ranked applications”) to the Assistant Secretary for Manufacturing and Services, and recommends which of the top applications should receive funding. If the amount of funds requested by the top ten applicants is less than the funding available, the selection panel recommends additional applications for funding in rank order. The selection panel's recommendation will not deviate from the rank order. For example, the selection panel cannot recommend funding for the application ranked seventh without recommending funding for applicants ranked first through sixth. The selection panel recommendation includes the panel's written assessment of the strengths and weaknesses of the top-ranked applications.

Selection Factors for Projects: From the top-ranked applications forwarded by the selection panel, the Assistant Secretary for Manufacturing and Services selects those applications that will receive funding. In addition to the evaluation criteria, the Assistant Secretary for Manufacturing and Services may consider the selection factors listed below:

1. The selection panel's written assessments;

2. Degree to which applications satisfy the ITA priorities established under Program Priorities;

3. Geographic distribution of the proposed awards;

4. Diversity of industry sectors and overseas markets covered by the proposed awards;

5. Diversity of project activities represented by the proposed awards;

6. Avoidance of redundancy and conflicts with the initiatives of other federal agencies; and

7. Availability of funds.

Intergovernmental Review: There are no intergovernmental review requirements beyond those already noted.

Limitation of Liability: In no event will NOAA or the Department of Commerce be responsible for proposal preparation costs if these programs fail to receive funding or are cancelled because of other agency priorities. Publication of this announcement does not oblige NOAA to award any specific project or to obligate any available funds.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: March 2, 2010.
Robert W. Pearson,
Director, Office of Planning, Coordination and Management, Manufacturing and Services, International Trade Administration, Department of Commerce.

[FR Doc. 2010-4715 Filed 3-4-10; 8:45 am]

BILLING CODE 3510-22-P